DEPARTMENT OF COMMERCE

U.S. Census Bureau

Proposed Information Collection; Comment Request; Automated Export System (AES) Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 19, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Kiesha Downs, Chief, Trade Regulations Branch, U.S. Census Bureau, 4600 Silver Hill Road, Washington, DC 20233-6700, (301) 763-7079, by fax (301) 763-8835 or by email kiesha.downs@census.gov.

SUPPLEMENTARY INFORMATION:

I. Abstract

The Automated Export System (AES) or successor system, is the instrument used for collecting export trade information. The data collected from this source is compiled by the U.S. Census Bureau and functions as the basis for the official U.S. export trade statistics. These statistics are used to determine the balance of international trade and are also designated for use as a principal economic indicator. Title 13, United States Code (U.S.C.), Chapter 9, Section 301 authorizes the Census Bureau to collect, compile, publish, and require the electronic filing of export data. Section 302 of Title 13, U.S.C., authorizes the Secretary of Commerce to publish regulations for the collection, publication, confidentiality, and disclosure of data collected pursuant to Chapter 9. Title 15, Code of Federal Regulations (CFR), Part 30, contains these regulatory provisions, and is known as the Foreign Trade Regulations (FTR). These data collected are used in the development of U.S. Government policies that affect the economy. These data also enable U.S. businesses to develop practical export marketing strategies as well as provide a means for the assessment of the impact of exports on the domestic economy. These data collected from the AES record are also used for export control purposes under Title 50, U.S.C., Export Administration Act, to detect and prevent the export of certain items by unauthorized parties or to unauthorized destinations or end users.

The FTR was recently amended on February 9, 2015, through the issuance of a Final Rule, “Clarification on Uses of Electronic Export Information,” to provide clarity on the confidentiality provisions of the Electronic Export Information (EEI) and to facilitate the legitimate sharing of export data consistent with the goals for the International Trade Data System (ITDS). However, these changes did not impact the reporting burden imposed upon the export trade community.

Currently, the Census Bureau is drafting a Notice of Proposed Rulemaking (NPR) to amend the FTR with new export reporting requirements. The proposed changes include the addition of two new data elements in the AES and clarification to existing reporting requirements. The proposed fields are not mandatory data elements and will only be required if a shipment meets a specific reporting requirement.

The proposed data elements are an Original Internal Transaction Number (ITN) field and a New or Used Electronics indicator field. The Original ITN field will be an optional field that may be utilized if the filer has to create an additional AES record for a shipment that was previously filed. Adding the Original ITN field will assist the export trade community and enforcement agencies in identifying that a filer completed the mandatory filing requirements for the original shipment. In doing so, this may decrease the issuance of unnecessary penalties for these types of shipments. Because this data element is optional and only applies to a small percentage of shipments, it will have a minimal impact on response burden.

The proposed New or Used Electronics indicator field will be used to improve information on trade flows and the disposal of used electronics. This information will be collected from the trade community for those who export electronics, in order to better understand the quantity and destinations of used electronics being exported. This field is being added to ensure compliance with Executive Order 13693, Planning for Federal Sustainability in the Next Decade, signed on March 19, 2015. The goal of the Executive Order is to employ environmentally sound practices with respect to Federal agency's disposal of all excess or surplus electronic products, to reduce the likelihood of negative impacts to the health and environment in developing countries. Adding the New or Used Electronics indicator will not contribute significantly to response burden because it is optional and is a check box that only applies to shipments of electronics.

The draft NPR also includes language to address the implementation of the ITDS in compliance with the Executive Order 13659, Streamlining the Export/Import Process for America's Businesses. The ITDS is an electronic information exchange capability, or “single window,” through which businesses will transmit data required by participating agencies for the importation or exportation of cargo.

Lastly, the draft NPR also includes language to clarify the reporting requirements for items such as Department of Treasury, Office of Foreign Assets Control (OFAC), specific or general licenses and split shipments. Unlike other export licenses, general and specific licenses issued by OFAC do not require a specific value or quantity to be reported. Currently, the definition of export license in the FTR does not account for licenses that do not have a specific value or quantity and, as a result, we are adding language to clarify 15 CFR 30.2(a)(1)(iv). The Census Bureau is revising requirements for split shipments to incorporate new timeframes that were initially announced in FTR Letter #6, Notice of Regulatory Change for Split Shipments. In practice, the export trade community already adheres to these filing timeframes. These clarifications do not impose new reporting requirements because these shipments currently require filing in the AES.

While the Census Bureau is proposing to add two additional data elements, the overall time per response is expected to remain at three minutes per AES filing. Data captured based on the new export reporting requirements are essential in compiling complete and accurate export statistics, as well as strengthening export controls.

II. Method of Collection

Except as noted in 15 CFR 30.2(a)(1)(iv), an electronic AES record is required for all export shipments valued more than $2,500 per Schedule B number from the United States, including Foreign Trade Zones located therein, Puerto Rico, and the U.S. Virgin Islands to foreign countries; for exports between the United States and Puerto Rico; and for exports to the U.S. Virgin Islands from the United States or Puerto Rico. Additionally, an AES record is required for the export of rough diamonds, used self-propelled vehicles and all exports requiring an export license from any other government agency or license exemption from the Department of State, regardless of value. The AES record is also required for exports with certain license exceptions from the Bureau of Industry and Security. The AES program is unique among Census Bureau statistical collections since respondents are not solicited for responses, as is the case with surveys. Filing export information via the AES is a mandatory process under Title 13, Chapter 9, U.S.C. The export trade community can access the AES via a free Internet-based system, AESDirect, or they can use software that connects directly with the U.S. Customs and Border Protection's (CBP) Automated Commercial Environment.

For exports to Canada, a Memorandum of Understanding (MOU) signed by CBP, Canada Border Services Agency, Statistics Canada, and the U.S. Census Bureau enables the United States to substitute Canadian import statistics for U.S. export statistics. Similarly, in accordance with the MOU, Canada substitutes U.S. import statistics for Canadian exports to the United States. This exchange of data eliminates the requirement for the export trade community to file the EEI with the U.S. Government for the majority of export shipments to Canada, thus resulting in the elimination of over eight million AES records annually. Export shipments to Canada of rough diamonds, used vehicles, or those that require a license must be filed through the AES. In addition, export shipments from the United States through Canada destined to a country other than Canada require an AES record.

In most instances, a U.S. Principal Party in Interest or authorized agent must file EEI via the AES and annotate the commercial loading documents with the proof of filing citation prior to the export of a shipment. In instances where the AES filing is not required, the proper exemption legend must be noted on the commercial loading documents per 15 CFR 30.7.

The AES enables the U.S. Government to significantly improve the quality, timeliness, and coverage of export statistics. Since July 1995, the Census Bureau and the CBP have utilized the AES to improve the reporting of export trade information, customer service, increase compliance with and enforcement of export laws, and provides paperless reports of export information. The AES also enables the U.S. Government to increase its ability to prevent the export of certain items by unauthorized parties, to unauthorized destinations and end users through electronic filing.

III. Data

OMB Control Number: 0607-0152.

Form Number(s): Automated Export System (AES) submissions.

Type of Review: Regular submission.

Affected Public: Exporters, Forwarding agents, Export Carriers.

Estimated Number of Respondents: 304,223 filers who submit 15,218,820 shipments through the AES.

Estimated Time per Response: 3 minutes for each AES submission.

Estimated Total Annual Burden Hours: 760,941.

Estimated Total Annual Cost to Public: $14,724,208.

Respondent's Obligation: Mandatory.

Legal Authority: Title 13, United States Code, Chapter 9, Sections 301-307.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 14, 2015.
Glenna Mickelson,
Management Analyst, Office of the Chief Information Officer.

[FR Doc. 2015-20537 Filed 8-19-15; 8:45 am]

BILLING CODE 3510-07-P